DEPARTMENT OF JUSTICE

Notice of Lodging of Proposed Consent Decree Under the Comprehensive Environmental Response, Compensation, and Liability Act

On September 27, 2019, the Department of Justice lodged a proposed consent decree with the United States District Court for the District of New Jersey in the lawsuit entitled United States v. Cassidy Painting Inc., et al., Civil Action No. 1:19-cv-18472-RMB-AMD. In the filed complaint, the United States, on behalf of the U.S. Environmental Protection Agency (“EPA”), alleges that the defendants are liable under Section 107 of the Comprehensive Environmental Response, Compensation, and Liability Act, 42 U.S.C. 9607(a), for past response costs EPA incurred to respond to releases and threatened releases of hazardous substances into the environment at the Superior Barrel and Drum Site located in Gloucester County, New Jersey. The proposed consent decree requires the group of defendants to pay $3.4 million, plus interest from July 1, 2019, to EPA, in settlement of the United States' claim for past response costs against these defendants.

The group of defendants is composed of Cassidy Painting Inc., Cleveland Steel Container Corporation, Coating Development Group, Inc., Congoleum Corporation, Durand Glass Manufacturing Company, LLC, Expert Management Inc., Atlantic Associates International Incorporated, d/b/a Hibrett Puratex, Incineration Recycling Services, Inc., Johnson Matthey Inc., LCRES Holdings, Inc., LCR Embedded Systems, Inc., LCR Electronics, Inc., Martin Corp., National Casein of New Jersey, National Chemical Laboratories of Pa., Inc., Occidental Chemical Corporation, Ocean Yachts, Inc., Polymeric Systems Inc., PRC-DeSoto International, Inc., Puritan Products, Inc., Recycle Inc. East, R.H. Sheppard Co., Inc., Richland Glass Co., Inc.,

Rohm and Haas Company, The Sherwin-Williams Company, Stem Brothers, Inc., Straight Arrow Products, Inc., Thermoseal Industries LLC, Trex Properties LLC, United Asphalt Co., VP Racing Fuels, Inc., and The Worthington Steel Company.

The publication of this notice opens a period for public comment on the consent decree. Comments should be addressed to the Assistant Attorney General, Environment and Natural Resources Division, and should refer to United States v. Cassidy Painting Inc., et al., D.J. Ref. No. 90-11-3-11831. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $12.00 (25 cents per page reproduction cost), payable to the United States Treasury.

Jeffrey Sands,
Assistant Section Chief, Environmental Enforcement Section, Environment & Natural Resources Division.

[FR Doc. 2019-21575 Filed 10-3-19; 8:45 am]

BILLING CODE 4410-15-P